DEPARTMENT OF AGRICULTURE

National Institute of Food and Agriculture

7 CFR Part 3415

Biotechnology Risk Assessment Research Grants Program

CFR Correction

In Title 7 of the Code of Federal Regulations, Part 2000 to End, revised as of January 1, 2015, on page 307, in § 3415.5, in paragraph (a), remove the term “upon which the Administrator” and add in its place the term “upon which the Director or Administrator”.

[FR Doc. 2015-33041 Filed 12-30-15; 8:45 am]

BILLING CODE 1505-01-D